INTERNATIONAL TRADE COMMISSION

[Investigation No. 337-TA-1256]

Certain Portable Battery Jump Starters and Components Thereof; Institution of Investigation

AGENCY: U.S. International Trade Commission.

ACTION: Notice.

SUMMARY: Notice is hereby given that a complaint was filed with the U.S. International Trade Commission on January 19, 2021, under section 337 of the Tariff Act of 1930, as amended, on behalf of The NOCO Company of Glenwillow, Ohio. An amended complaint was filed on February 3, 2021, and supplements were filed on February 4, 5, 8, 22 and 23, and March 4, 2021. The amended complaint alleges violations of section 337 based upon the importation into the United States, the sale for importation, and the sale within the United States after importation of certain portable battery jump starters and components thereof by reason of infringement of certain claims of U.S. Patent No. 9,007,015 (“the '015 patent”); U.S. Patent No. 10,604,024 (“the '024 patent”); and infringement of U.S. Trademark Registration No. 4,811,656 (“the '656 mark”); and U.S. Trademark Registration No. 4,811,749 (“the '749 mark”). The complaint further alleges that an industry in the United States exists as required by the applicable Federal Statute. The complainant requests that the Commission institute an investigation and, after the investigation, issue a general exclusion order, and cease and desist orders.

ADDRESSES: The complaint, as amended, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on March 17, 2021, ordered that—

(1) Pursuant to subsection (b) of section 337 of the Tariff Act of 1930, as amended, an investigation be instituted to determine:

(a) Whether there is a violation of subsection (a)(1)(B) of section 337 in the importation into the United States, the sale for importation, or the sale within the United States after importation of certain products identified in paragraph (2) by reason of infringement of one or more of claims 1, 4, 11, 14, 18, 19, and 21 of the '015 patents and claims 1, 4-6, 16, 19, 23, 24, 26, 29, and 30 of the '024 patent;

(b) whether there is a violation of subsection (a)(1)(C) of section 337 in the importation into the United States, the sale for importation, or the sale within the United States after importation of certain products identified in paragraph (2) by reason of infringement of the '656 mark and the '749 mark; and whether an industry in the United States exists as required by subsection (a)(2) of section 337;

(c) the decision to institute shall not preclude the presiding Administrative Law Judge from severing the (a)(1)(B) and (a)(1)(C) allegations in the investigation pursuant to section 210.14(h) of the Commission's rules of Practice and Procedure, 19 CFR 210.14(h).

(2) Pursuant to section 210.10(b)(1) of the Commission's Rules of Practice and Procedure, 19 CFR 210.10(b)(1), the plain language description of the accused products or category of accused products, which defines the scope of the investigation, is “portable, battery-powered devices that are used to jump-start batteries such as those in automobiles, trucks, and other vehicles, and related components, namely battery cables and clamps”;

(3) For the purpose of the investigation so instituted, the following are hereby named as parties upon which this notice of investigation shall be served:

(a) The complainant is: The NOCO Company, 30339 Diamond Parkway #102, Glenwillow, OH 44139.

(b) The respondents are the following entities alleged to be in violation of section 337, and are the parties upon which the complaint is to be served:

Advance Auto Parts, Inc., 2635 East Millbrook Road, Raleigh, NC 27604

Anker Technology (UK) Ltd., Suite B, Fairgate House, 205 Kings Road, Tyseley, Birmingham, United Kingdom B11 2AA

Antigravity Batteries LLC, 15622 Broadway Center Street, Gardena, CA 90248

Arteck Electronic Co., Ltd., No. 1104-51, Tower B, Jinfengcheng Building, Shennan East Road, No. 501, Luohu, Shenzhen, Guangdong, China 518100

AutoZone, Inc., 123 South Front Street, Memphis, TN 38103

Best Buy Co., Inc., 7601 Penn Avenue, South Richfield, MN 552423

Best Parts, Inc., 123 South Front Street, Memphis, TN 38103

Clore Automotive, LLC, 8735 Rosehill Suite 220, Lenexa, KS 66215

Deltran USA, LLC, 801 International Speedway Blvd., DeLand, FL 32724

Energen, Inc., 17008 Evergreen Place, Unit B, City of Industry, CA 91745

FlyLink Tech Co., Ltd., 8F, DongMing Building, Min Zhi Street, Bao'an District, Shenzhen, Guangdong, China 518131

Gooloo Technologies LLC, Shenzhen Gooloo E-Commerce Co., Ltd., Room 303, Bantian Business Center, Bantian Wuhe Road, Longgang District, Shenzhen, China 518000

Great Neck Saw Manufacturers, Inc., 165 East 2nd Street, Mineola, New York 11501

Guangdong Boltpower Energy Co., Ltd, 3-6 Floor KelunTe Building, No. 5th Ganli Road, Longgang District, Shenzhen City, Guangdong, China 518100

Halo2Cloud, LLC, 6 Central Row, Hartford, CT 06103

Horizon Tool, Inc., 7918 Industrial Village Road, Greensboro, NC 27409

K-Tool International, 45255 Five Mile Road, Plymouth, MI 48170

Lowe's Companies, Inc., 1000 Lowe's Blvd., Mooresville, NC 28117

Matco Tools corporation, 4403 Allen Road, Stow, OH 44224

MonoPrice, Inc., 1 Pointe Drive, 4th Floor, Brea, CA 92821

National Automotive Parts Association, LLC (d/b/a NAPA), 2085 Marietta Blvd. Northwest, Atlanta, GA 30318

Nekteck, Inc., 421 South Brookhurst Street, Suite 217, Anaheim, California 92804

O'Reilly Automotive, Inc., 233 South Patterson Avenue, Springfield, MO 65802

Paris Corporation, 800 Highland Drive, Westampton, NJ 08060

PowerMax Battery (U.S.A.), Inc., 1520 South Grove Avenue, Ontario, CA 91761

Prime Global Products, Inc., 2220 Airport Industrial Drive, Suite 100, Ball Ground, GA 30107

QVC, Inc., 1200 Wilson Drive, West Chester, PA 19380

Schumacher Power Technology Ltd., No. 30, Century Road, Binhai County, Yancheng, Jiangsu, China 224500

Schumacher Electric Corp., 801 East Business Center Drive, Mount Prospect, IL 60056

Shenzhen Carku Technology Co., Ltd., Building A, Qixing Creative Workshop (Dalang), Lianrun Road, Gaofeng Community, Dalang Street, Longhua New District, Shenzhen, China 518110

Shenzhen Dingjiang Technology Co., Ltd. LLLC, R701G, HuafengBao'anZhigu Innovation Park, Yintian 4th Road, Xixiang Street, Bao'an District, Shenzhen, China 518000

Shenzhen Jieruijia Technology Co. Ltd., No. 8 Mu Dun Road, No. 1 Industrial, Zone, Lou Cun Community, Gong Ming, Guang Ming District, China

Shenzhen Mediatek Tong Technology Co., Ltd., Room 3A-E, Qianyu Tong Bldg., Qingji Rd., Longhua St., Longhua New Distrtict, Shenzhen, China 518000

Shenzhen Take Tools Co., Ltd., No. B714, Niulanqian Building, Minzhi Road, Longhua District, ShenzhenGuangdong, China 518000,

Shenzhen Topdon Technology Co., Ltd., 5th Floor, Building 12, Taihua Wutong Island, Intersection of Shunchang Road and Hangkong Road, Xixiang Subdistrict, Baoan District, Guangdong, Shenzhen, China 518112

Shenzhen Valuelink E-Commerce Co., Ltd., 2nd Two-way ChangJiangPu, Heao Community, HengGang Street Office, Longgang District, Shenzhen China 518000

Smartech Products, Inc., 8700 Larkin Road, Suite B, Savage, MD 20763

ThiEYE Technologies Co., Ltd., Room 405, 4th Floor, Building B, Bantian International Center, Longgang District, China 518000

Tii Trading Inc., 13200 Brooks Drive Suite F, Baldwin Park, CA 91707, Walmart Inc., 702 SW 8th Street, Bentonville, AR 72716

Winplus North America, Inc., 2975 Red Hill Ave, Suite 100, Costa Mesa, CA 92626

Zagg Co. Rrd Gst, 381 Airtech Parkway, Plainfield, IN 46168

Zhejiang Quingyou Electronic Commerce Co., Ltd., Room 266-270, Building 7, No. 253, Tinglan Street, Qiaosi Street, Yuhang District, Hangzhou, Zhejiang, China 311100

70mai Co., Ltd., Room 2220, Building 2, No. 588, Zixing Road, Minhang District, Shanghai, China 201100

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: March 17, 2021.
Lisa Barton,
Secretary to the Commission.

[FR Doc. 2021-05905 Filed 3-22-21; 8:45 am]

BILLING CODE 7020-02-P